DEPARTMENT OF TRANSPORTATION

Office of the Secretary

Reports, Forms and Recordkeeping Requirements; Agency Information Collection Activities Under OMB Review

AGENCY: Office of the Secretary, DOT.

ACTION: Notice and request for comments.

SUMMARY: In accordance with the Paperwork Reduction Act of 1995, this notice announces the Department of Transportation's (DOT) intention to request the approval of a new information collection.

DATES: Comments on this notice must be received by September 29, 2005: attention DOT/OST Desk Officer, Office of Information and Regulatory Affairs, Office of Management and Budget, Docket Library, Room 10102, 725 17th Street NW., Washington, DC 20503.

FOR FURTHER INFORMATION CONTACT: Deborah Perkins, Departmental Office of Human Resources, Office of the Secretary, U.S. Department of Transportation, 400 Seventh Street, SW., Washington DC 20590, (202) 366-9447

SUPPLEMENTARY INFORMATION: Title: Applicant Background Questionnaire.

OMB Control Number: Pending.

Affected Public: Employees upon initial hire and applicants for positions.

Annual Estimated Burden: 100 hours.

Comments are invited on: (a) Whether the proposed collection of information is necessary for the proper performance of the functions of the Department, including whether the information will have practical utility as described; (b) the accuracy of the Department's estimate of burden of the proposed collection of information, including the validity of methodology and assumptions used; (c) ways to enhance the quality, utility, and clarity of the information to be collected; and (d) ways to minimize the burden of the collection of information on those who are to respond, including the use of appropriate, automated, electronic, mechanical or other technology. Comments should be addressed to the address in the preamble. All responses to this notice will be summarized and included in the request for Office of Management and Budget (OMB) approval. All comments will also become a matter of public record.

Issued in Washington, DC, on August 22, 2005.
Steven Lott,
Manager, Strategic Integration, IT Investment Management Office.

BILLING CODE 4910-62-P

[FR Doc. 05-17213 Filed 8-29-05; 8:45 am]

BILLING CODE 4910-62-C